DEPARTMENT OF TREASURY

Internal Revenue Service

Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. William M. Paul, Deputy Chief Counsel (Technical)

2. Julie Hanlon-Bolton, Associate Chief Counsel (Income Tax and Accounting)

3. Joseph A. Spires, Division Counsel (Litigation and Advisory)

4. Gary E. Sharp, Associate Chief Counsel (General Legal Services)

5. Edith M. Shine, Associate Chief Counsel (Finance and Management)

Alternate: Holly A. Porter, Associate Chief Counsel (Energy, Credits and Excise Tax)

This publication is required by 5 U.S.C. 4314(c)(4).

Kenneth J. Kies,
Chief Counsel (Acting), Internal Revenue Service.

[FR Doc. 2025-22417 Filed 12-9-25; 8:45 am]

BILLING CODE 4830-01-P